DEPARTMENT OF ENERGY

Federal Energy Regulatory Commission

Combined Notice of Filings #1

Take notice that the Commission received the following exempt wholesale generator filings:

Docket Numbers: EG22-90-000.

Applicants: Laurel Mountain Interconnection, LLC.

Description: Laurel Mountain Interconnection, LLC submits Notice of Self-Certification of Exempt Wholesale Generator Status.

Filed Date: 4/7/22.

Accession Number: 20220407-5167.

Comment Date: 5 p.m. ET 4/28/22.

Take notice that the Commission received the following Complaints and Compliance filings in EL Dockets:

Docket Numbers: EL22-50-000.

Applicants: East Kentucky Power Cooperative, Inc.

Description: Petition of East Kentucky Power Cooperative, Inc. for Enforcement of PURPA.

Filed Date: 4/8/22.

Accession Number: 20220408-5112.

Comment Date: 5 p.m. ET 4/29/22.

Take notice that the Commission received the following electric rate filings:

Docket Numbers: ER20-1633-001.

Applicants: Silver Run Electric, LLC, PJM Interconnection, L.L.C.

Description: Compliance filing: Silver Run Electric, LLC submits tariff filing per 35: Silver Run Electric Amendment to Order No. 864 Compliance Filing to be effective 5/25/2020.

Filed Date: 4/8/22.

Accession Number: 20220408-5080.

Comment Date: 5 p.m. ET 4/29/22.

Docket Numbers: ER22-496-001.

Applicants: Midcontinent Independent System Operator, Inc.

Description: Tariff Amendment: 2022-04-08_Deficiency Response to Minimum Capacity Obligation Filing to be effective 9/1/2022.

Filed Date: 4/8/22.

Accession Number: 20220408-5128.

Comment Date: 5 p.m. ET 4/29/22.

Docket Numbers: ER22-1101-001.

Applicants: Cascade Energy Storage, LLC.

Description: Tariff Amendment: Second Supplement to Application for Market-Based Rate Authority to be effective 2/24/2022.

Filed Date: 4/7/22.

Accession Number: 20220407-5173.

Comment Date: 5 p.m. ET 4/18/22.

Docket Numbers: ER22-1102-001.

Applicants: Sierra Energy Storage, LLC.

Description: Tariff Amendment: Second Supplement to Application for Market-Based Rate Authority to be effective 2/24/2022.

Filed Date: 4/7/22.

Accession Number: 20220407-5174.

Comment Date: 5 p.m. ET 4/18/22.

Docket Numbers: ER22-1103-001.

Applicants: BRP Capital & Trade LLC.

Description: Tariff Amendment: Second Supplement to Application for Market-Based Rate Authority to be effective 4/25/2022.

Filed Date: 4/7/22.

Accession Number: 20220407-5179.

Comment Date: 5 p.m. ET 4/18/22.

Docket Numbers: ER22-1602-000.

Applicants: Midcontinent Independent System Operator, Inc., Cooperative Energy.

Description: § 205(d) Rate Filing: Midcontinent Independent System Operator, Inc. submits tariff filing per 35.13(a)(2)(iii): 2022-04-07_ROE Married Sheets to be effective 10/1/2016.

Filed Date: 4/7/22.

Accession Number: 20220407-5184.

Comment Date: 5 p.m. ET 4/28/22.

Docket Numbers: ER22-1603-000.

Applicants: Alabama Power Company, Georgia Power Company, Mississippi Power Company.

Description: § 205(d) Rate Filing: Alabama Power Company submits tariff filing per 35.13(a)(2)(iii): Crimson Solar (Enterprise Solar) LGIA Filing to be effective 3/25/2022.

Filed Date: 4/8/22.

Accession Number: 20220408-5122.

Comment Date: 5 p.m. ET 4/29/22.

Docket Numbers: ER22-1604-000.

Applicants: California Independent System Operator Corporation.

Description: § 205(d) Rate Filing: 2022-04-08 Central Procurement Entities Tariff Amendment to be effective 8/15/2022.

Filed Date: 4/8/22.

Accession Number: 20220408-5137.

Comment Date: 5 p.m. ET 4/29/22.

Docket Numbers: ER22-1605-000.

Applicants: Pacific Gas and Electric Company.

Description: Tariff Amendment: Termination of Shelter Cove WPA (SA 382) to be effective 6/7/2022.

Filed Date: 4/8/22.

Accession Number: 20220408-5139.

Comment Date: 5 p.m. ET 4/29/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 8, 2022.
Kimberly D. Bose,
Secretary.

[FR Doc. 2022-07986 Filed 4-13-22; 8:45 am]

BILLING CODE 6717-01-P